FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 24, 2006.

A. Federal Reserve Bank of Atlanta (Andre Anderson, Vice President) 1000 Peachtree Street, NE., Atlanta, Georgia 30309:

1. Charles H. Roland and Kimberly O. Roland, Andalusia, Alabama; to retain voting shares of Southern National Corporation, Andalusia, Alabama, and thereby indirectly retain voting shares of Covington County Bank, Andalusia, Alabama.

B. Federal Reserve Bank of Chicago (Patrick M. Wilder, Assistant Vice President) 230 South LaSalle Street, Chicago, Illinois 60690-1414:

1. Harold Dean Westra, individually and acting in concert with Greg Todd Westra, both of Rock Valley, Iowa; to acquire voting shares of Premier Holdings, Ltd., Rock Valley, Iowa, and thereby indirectly acquire voting shares of Premier Bank, Rock Valley, Iowa.

C. Federal Reserve Bank of St. Louis (Glenda Wilson, Community Affairs Officer) 411 Locust Street, St. Louis, Missouri 63166-2034:

1. J. Chester Porter, Shepherdsville, Kentucky, and the William G. Porter Revocable Trust, Sarasota, Florida; to acquire voting shares of Porter Bancorp, Inc., Shepherdsville, Kentucky, and thereby indirectly acquire voting shares of PBI Bank, Greensburg, Kentucky.

Board of Governors of the Federal Reserve System, May 4, 2006.
Robert deV. Frierson,
Deputy Secretary of the Board.

[FR Doc. E6-6994 Filed 5-8-06; 8:45 am]

BILLING CODE 6210-01-S